OFFICE OF THE UNITED STATES TRADE REPRESENTATIVE

Fiscal Year 2014 WTO Tariff-Rate Quota Allocations for Raw Cane Sugar, Refined and Specialty Sugar, and Sugar-Containing Products

AGENCY: Office of the United States Trade Representative.

ACTION: Notice.

SUMMARY: The Office of the United States Trade Representative (USTR) is providing notice of country-by-country allocations of the Fiscal Year (FY) 2014 (Oct. 1, 2013, through Sept. 30, 2014) in-quota quantity of the tariff-rate quotas (TRQs) for imported raw cane sugar, refined sugar (syrups and molasses), specialty sugar, and sugar-containing products.

DATES: Effective October 1, 2013.

ADDRESSES: Inquiries may be mailed or delivered to Ann Heilman-Dahl, Director of Agricultural Affairs, Office of Agricultural Affairs, Office of the United States Trade Representative, 600 17th Street NW., Washington, DC 20508.

FOR FURTHER INFORMATION CONTACT: Vincent Parascandolo, Office of Agricultural Affairs, telephone: 202-395-9582 or facsimile: 202-395-4579.

SUPPLEMENTARY INFORMATION: Pursuant to Additional U.S. Note 5 to Chapter 17 of the Harmonized Tariff Schedule of the United States (HTS), the United States maintains TRQs for imports of raw cane sugar and refined sugar (syrups and molasses). Pursuant to Additional U.S. Note 8 to Chapter 17 of the HTS, the United States maintains a TRQ for imports of sugar-containing products.

Section 404(d)(3) of the World Trade Organization (WTO) Uruguay Round Agreements Act (19 U.S.C. 3601(d)(3)) authorizes the President to allocate the in-quota quantity of a TRQ for any agricultural product among supplying countries or customs areas. The President delegated this authority to the United States Trade Representative in Presidential Proclamation 6763 (60 FR 1007).

On September 13, 2013, the Secretary of Agriculture (Secretary) announced the sugar program provisions for fiscal year (FY) 2014 (Oct. 1, 2013, through Sept. 30, 2014). The Secretary announced an in-quota quantity of the TRQ for raw cane sugar for FY 2014 of 1,117,195 metric tons * raw value (MTRV), which is the minimum amount to which the United States is committed to provide access for under the WTO Uruguay Round Agreements. USTR is allocating this quantity (1,117,195 MTRV) to the following countries in the amounts specified below:

Country | FY 2014 Raw cane sugar allocations (MTRV)
Argentina | 45,281
Australia | 87,402
Barbados | 7,371
Belize | 11,584
Bolivia | 8,424
Brazil | 152,691
Colombia | 25,273
Congo | 7,258
Costa Rica | 15,796
Cote d'Ivoire | 7,258
Dominican Republic | 185,335
Ecuador | 11,584
El Salvador | 27,379
Fiji | 9,477
Gabon | 7,258
Guatemala | 50,546
Guyana | 12,636
Haiti | 7,258
Honduras | 10,530
India | 8,424
Jamaica | 11,584
Madagascar | 7,258
Malawi | 10,530
Mauritius | 12,636
Mexico | 7,258
Mozambique | 13,690
Nicaragua | 22,114
Panama | 30,538
Papua New Guinea | 7,258
Paraguay | 7,258
Peru | 43,175
Philippines | 142,160
South Africa | 24,220
St. Kitts & Nevis | 7,258
Swaziland | 16,849
Taiwan | 12,636
Thailand | 14,743
Trinidad & Tobago | 7,371
Uruguay | 7,258
Zimbabwe | 12,636

These allocations are based on each country's historical shipments to the United States. The allocations of the in-quota quantities of the raw cane sugar TRQ to countries that are net importers of sugar are conditioned on receipt of the appropriate verifications of origin, and certificates for quota eligibility must accompany imports from any country for which an allocation has been provided.

* Conversion factor: 1 metric ton = 1.10231125 short tons.

On September 13, 2013, the Secretary announced the establishment of the in-quota quantity of the FY 2014 refined-sugar TRQ at 122,000 MTRV for which the sucrose content, by weight in the dry state, must have a polarimeter reading of 99.5 degrees or more. The total of 122,000 MTRV includes the minimum level necessary to comply with the US WTO Uruguay Round commitments—22,000 MTRV, of which 1,656 MTRV is reserved for specialty sugars—and an additional 100,000 MTRV for specialty sugars. USTR is allocating 12,050 MTRV of refined sugar to Canada and 8,294 MTRV of refined sugar to be administered on a first-come, first-served basis.

Imports of all specialty sugar will be administered on a first-come, first-served basis in five tranches. The Secretary has announced that the total in-quota quantity of specialty sugar will be the 1,656 MTRV included under the U.S. WTO commitment plus an additional 100,000 MTRV. The first tranche of 1,656 MTRV will open October 10, 2013. All types of specialty sugars are eligible for entry under this tranche. The second tranche of 37,000 MTRV will open on October 24, 2013. The third, fourth, and fifth tranches of 21,000 MTRV each will open on January 10, 2014; April 10, 2014; and July 10, 2014, respectively. The second, third, fourth and fifth tranches will be reserved for organic sugar and other specialty sugars not currently produced commercially in the United States or reasonably available from domestic sources.

With respect to the in-quota quantity of 64,709 metric tons (MT) of the TRQ for imports of certain sugar-containing products maintained under Additional U.S. Note 8 to Chapter 17 of the HTS, USTR is allocating 59,250 MT to Canada. The remaining 5,459 MT of the in-quota quantity is available to other countries on a first-come, first-served basis.

Raw cane sugar, refined and specialty sugar and sugar-containing products for FY 2014 TRQs may enter the United States as of October 1, 2013.

Michael Froman,
United States Trade Representative.

[FR Doc. 2013-22641 Filed 9-17-13; 8:45 am]

BILLING CODE 3290-F3-P